COMMISSION ON CIVIL RIGHTS

Agenda and Notice of Public Meeting of the Indiana Advisory Committee

Notice is hereby given, pursuant to the provisions of the rules and regulations of the U.S. Commission on Civil Rights (Commission), and the Federal Advisory Committee Act (FACA), that a planning meeting with briefing of the Indiana Advisory Committee will convene at 9 a.m. and adjourn at 1 p.m. on Tuesday, August 7, 2007, at the Hyatt Regency Hotel, One South Capitol Avenue, Indianapolis, IN 46204. The purpose of the meeting is to conduct an orientation and ethics training for new members, plan future activities, and have a briefing on religious discrimination in prisons.

Members of the public are entitled to submit written comments; the comments must be received in the regional office by August 14, 2007. The address is 55 West Monroe Street, Suite 410, Chicago, IL 60603. Persons wishing to e-mail their comments, or to present their comments verbally at the meeting, or who desire additional information should contact Carolyn Allen, Administrative Assistant, (312) 353-8311, TDD/TTY (312) 353-8362, or by e-mail: callen@usccr.gov.

Hearing impaired persons who will attend the meeting and require the services of a sign language interpreter should contact the Regional Office at least ten (10) working days before the scheduled date of the meeting.

Records generated from this meeting may be inspected and reproduced at the Midwestern Regional Office, as they become available, both before and after the meeting. Persons interested in the work of this advisory committee are advised to go to the Commission's Web site, http://www.usccr.gov, or to contact the Midwestern Regional Office at the above e-mail or street address.

The meeting will be conducted pursuant to the provisions of the rules and regulations of the Commission and FACA.

It was not possible to publish this notice 15 days in advance of the meeting date because of internal processing delays.

Dated at Washington, DC, August 2, 2007.
Ivy L. Davis,
Acting Chief, Regional Programs Coordination Unit.

[FR Doc. E7-15354 Filed 8-6-07; 8:45 am]

BILLING CODE 6335-01-P